DEPARTMENT OF COMMERCE

Bureau of Industry and Security

15 CFR Parts 734 and 746

[Docket No. 240119-0019]

RIN 0694-AJ48

Implementation of Additional Sanctions Against Russia and Belarus Under the Export Administration Regulations (EAR) and Refinements to Existing Controls

AGENCY: Bureau of Industry and Security, Department of Commerce.

ACTION: Final rule.

SUMMARY: In response to the Russian Federation's (Russia's) ongoing aggression against Ukraine and Belarus's complicity in the invasion, the Department of Commerce is strengthening its existing sanctions under the Export Administration Regulations (EAR) against Russia and Belarus, including by expanding the scope of the EAR's Russian and Belarusian Industry Sector Sanctions and making certain changes to the licensing requirements that apply to the occupied Crimea region of Ukraine as well. Additionally, this rule revises recent restrictions targeting Iran's supply of Unmanned Aerial Vehicles to Russia. This rule also refines certain existing export controls on Russia and Belarus. The Department of Commerce is taking these actions to enhance the effectiveness of its controls on these countries and to better align them with those implemented by U.S. allies and partners.

DATES: This rule is effective on January 23, 2024.

FOR FURTHER INFORMATION CONTACT: For general questions on this final rule, contact Eileen Albanese, Director, Office of National Security and Technology Transfer Controls, Bureau of Industry and Security, Department of Commerce, Phone: (202) 482-0092, Fax: (202) 482-482-3355, Email: rpd2@bis.doc.gov. For emails, include “Russia, Belarus, and Iran December 2023 export control measures” in the subject line.

SUPPLEMENTARY INFORMATION:

I. Background

In response to Russia's February 2022 further invasion of Ukraine, BIS imposed extensive sanctions on Russia under the Export Administration Regulations (15 CFR parts 730 through 774) (EAR) as part of the final rule “Implementation of Sanctions Against Russia Under the Export Administration Regulations (EAR)” (the Russia Sanctions Rule) (87 FR 12226, March 3, 2022). To address Belarus's complicity in the invasion, BIS imposed similar sanctions on Belarus under the EAR in a final rule, “Implementation of Sanctions Against Belarus” (“Belarus Sanctions Rule”) (87 FR 13048, March 6, 2022). During the last two years, BIS has published a number of additional final rules strengthening the export controls on Russia and Belarus, including measures undertaken in coordination with U.S. allies and partners.

Most recently, BIS strengthened its existing sanctions under the EAR against Russia and Belarus, including by expanding the scope of the EAR's Russian and Belarusian Industry Sector Sanctions and by expanding the foreign direct product rule that already applied to Russia and Belarus to apply as well to the Crimea region of Ukraine, which has been occupied by Russia since 2014 (88 FR 33422, May 22, 2023). Additionally, that rule revised restrictions implemented in a February 2023 rule, “Export Control Measures Under the Export Administration Regulations (EAR) to Address Iranian Unmanned Aerial Vehicles (UAVs) and Their Use by the Russian Federation,” targeting Iran's supply of Unmanned Aerial Vehicles (UAVs) to Russia and refined existing export controls on Russia and Belarus (Iran UAV rule) (88 FR 12150, February 27, 2023). The Department of Commerce took these actions to enhance the effectiveness of its controls on these countries and to better align them with those implemented by U.S. allies and partners.

Taken together, these actions under the EAR reflect the U.S. Government's position that Russia's invasion of Ukraine and Belarus's complicity in the invasion, flagrantly violate international law, are contrary to U.S. national security and foreign policy interests, and undermine global order, peace, and security.

The export control measures in this final rule build upon the policy objectives set forth in the earlier rules referenced above. The adoption of these measures, undertaken in part to better align U.S. controls with the stringent measures implemented by partners and allies, will enhance the effectiveness of the multilateral sanctions on Russia by further limiting Russia's access to items that enable its military capabilities and to sources of revenue that could support those capabilities. Additionally, the new or expanded controls specified in this rule target Belarus as part of the U.S. response to the country's complicity in Russia's aggression, as well as Iran for its support of Russia.

II. Overview of New Controls

This rule revises the EAR to enhance and strengthen the existing sanctions against Russia and Belarus by expanding the scope of the Russian and Belarusian industry sector sanctions to better align them with the controls that have been implemented by U.S. allies and partners imposing substantially similar controls on Russia and Belarus, including a control added on Iran pursuant to the Iran UAV rule, that targeted Iran's supply of UAVs to Russia (88 FR 12150, February 27, 2023) (Iran UAVs rule). For similar policy reasons, this rule also refines other controls on Russia and Belarus that were imposed in response to Russia's February 2022 further invasion of Ukraine.

III. Amendments to the Export Administration Regulations (EAR)

This rule enhances and strengthens the sanctions that have been implemented on Russia, Belarus, the occupied Crimea region of Ukraine, and Iran under the EAR, as described under sections A and B below. The regulatory revisions described under Section A. Imposition of new export controls on Russia, Belarus, and Iran, including changes to align controls with those imposed by U.S. allies and partners include:

• Expansion of Russian and Belarusian Industry Sector Sanctions that apply to items listed in supplement no. 4 to part 746 to add additional items to align with controls imposed by U.S. partners and allies and to make other changes to render the EAR's controls stronger, more effective, and easier to understand;

• Expansion of items that require a license under § 746.7 when destined to Iran and under § 746.8 when destined to Russia or Belarus under supplement no. 7 to part 746 to add an additional item to align with controls imposed by U.S. partners and allies and to make other changes to render the EAR's controls stronger, more effective, and easier to understand; and

• Eliminating the lowest-level military and spacecraft-related items (i.e., .y items) from being eligible for de minimis treatment when incorporated into foreign-made items for export from abroad or reexport to Russia or Belarus.

A. Imposition of New Export Controls on Russia, Belarus, and Iran, Including Changes To Align Controls With Those Imposed by U.S. Allies and Partners

This rule expands the scope of the Russian and Belarusian Industry Sector Sanctions (§ 746.5 of the EAR) by adding additional items to supplement no. 4 to part 746 that will require a license under § 746.5(a)(1)(ii), as described further below. This rule also adds an additional item to supplement no. 7 to part 746 that will require a license under § 746.7 when destined to Iran and under § 746.8 when destined to Russia or Belarus.

1. Expansion of Russian and Belarusian Industry Sector Sanctions by adding additional items to supplement no. 4 to part 746 consistent with the objective to undermine Russia's and Belarus's industrial bases and align the EAR controls further with those imposed by U.S. partners and allies.

This rule expands the list of items set forth in supplement no. 4 to part 746 (Russian and Belarusian Industry Sector Sanctions Pursuant to § 746.5(a)(1)(ii)). Specifically, this rule adds 94 additional Harmonized Tariff Schedule (HTS)-6 Code entries to supplement no. 4; consequently, these items will now require a license for export, reexport to, or transfer within Russia or Belarus under § 746.5(a)(1)(ii). Restrictions on these 94 groups of industrial items are intended to further undermine the Russian and Belarusian industrial bases and their ability to continue to support Russia's military aggression in Ukraine. The items added include a variety of industrial materials, items needed for manufacturing, and certain aircraft-related items. The complete list of 94 new HTS-6 Codes this rule adds to supplement no. 4 are identified in amendatory instruction 10.

In May 2023, BIS imposed controls on entire harmonized system chapters 84, 85, and 90 in supplement no. 4 to part 746 of the EAR. With this new rule, BIS will notably be controlling all of harmonized system chapter 88 as well. Chapter 88 is focused on aircraft, spacecraft, and parts thereof, and there is significant overlap between items in this chapter and items classified in Category 9 of the Commerce Control List (see, e.g., Export Control Classification Number (ECCN) 9A991). However, BIS believes that adding controls to all of chapter 88 will more closely align U.S. controls with those of U.S. allies, who generally impose aviation controls on Russia through reference to Chapter 88. This will also ensure that additional related items not enumerated or otherwise specified on the Commerce Control List are controlled for export, reexport, or transfer (in-country) to or within Russia and Belarus. Through such comprehensive controls, BIS intends to cut further off Russia's access to items of potential military significance and expand the economic impact of controls that will deny Russia additional resources it needs to continue waging war. Consistent with the amendments made elsewhere by this rule, the proper order of review for destination-based controls specific to Russia and Belarus is to review § 746.8 before reviewing controls imposed by § 746.5. Furthermore, consistent with the Order of Review described in supplement no. 4 to part 774 of the EAR and § 734.3(b)(1)(i), defense articles on the United States Munitions List (USML) are subject to the exclusive jurisdiction of another agency and are thus not subject to the EAR. Accordingly, no USML defense articles are controlled under the EAR for export, reexport, or transfer (in-country) to or within Russia or Belarus based on § 746.5, no matter their tariff code classification. See the International Traffic in Arms Regulations (ITAR) (22 CFR parts 120 through 130) for controls for USML defense articles.

Items controlled through amendments made by this rule were identified based on a review of public and non-public information regarding which items Russia seeks to further its war against Ukraine, an evaluation of areas in which U.S. trade has continued to provide an economic benefit to Russia, and an assessment of how the United States could better align with its allies and partners to degrade Russia's war effort. BIS estimates these changes to supplement no. 4 to part 746 will result in an additional 25 license applications submitted to BIS annually.

2. Expansion of items that require a license under § 746.7 when destined to Iran and under § 746.8 when destined to Russia or Belarus under supplement no. 7 to part 746 to align with controls imposed by U.S. partners and allies and to make other changes to render the EAR's controls stronger, more effective, and easier to understand.

In supplement no. 7 to part 746 (Items That Require a License Under § 746.6 When Destined to the Temporarily Occupied Crimea region of Ukraine, Under § 746.7 When Destined to Iran, and Under § 746.8 When Destined to Russia or Belarus), this rule expands the list of items that require a license by adding one additional HTS-6 Code entry (852910) to supplement no. 7; consequently, items classified under this HTS-6 entry will now require a license for export or reexport to Iran under § 746.7(a)(1)(ii) and to Russia and Belarus under § 746.8(a)(2). The restrictions on these items are intended to further undermine Iran's ability to support the Russian and Belarusian industrial bases that have in turn provided support for Russia's military aggression in Ukraine. The items that fall under this entry include a variety of antennas and antenna reflectors and parts thereof. BIS estimates this change to supplement no. 7 to part 746 will result in an additional five license applications submitted to BIS annually.

3. Prohibiting the use of de minimis for .y “600 series” and 9x515 items for Belarus and Russia.

This rule revises § 734.4 (De minimis U.S. content) to expand the scope of the paragraph (a)(6)(ii) restriction that specifies there is no de minimis level for foreign-made items that incorporate U.S.-origin 9x515 or “600 series” .y items when destined for a country listed in Country Group E:1 or E:2 of supplement no. 1 to part 740 of the EAR or for China. Specifically, this rule adds Belarus and Russia to this paragraph so that there is no de minimis level for U.S.-origin 9x515 or “600 series” .y items destined for Belarus or Russia. Adding Belarus and Russia to this restriction on the use of de minimis will bring additional foreign-made military and spacecraft items within the scope of the EAR and put additional pressure on Russia's military and defense industrial base, as well as make it more difficult for foreign suppliers to provide even low-level military and spacecraft items to Belarus and Russia. While the license requirements under § 746.8(a)(1) already apply to the export, reexport, or transfer (in-country) to or within Russia or Belarus of these low-level military and spacecraft items, eliminating the eligibility of these items for de minimis treatment makes the EAR's Russia and Belarus controls stronger, more far reaching, and more effective. BIS estimates this change to § 734.4 will result in an additional five license applications submitted to BIS annually.

B. Corrections and Clarifications to Existing Controls on Russia and Belarus

Some of the EAR's Russia and Belarus-related provisions discussed above in Section A with respect to the additional controls being imposed on Russia and Belarus are also discussed here because this rule makes corrections and clarifications with respect to those provisions. The regulatory revisions described under Section B. Corrections and clarifications to existing controls on Russia and Belarus include:

• Addition of exclusion from license requirements under § 746.6 for exports, reexports, and transfers (in-country) related to deployments by the Armed Forces of Ukraine to or within the temporarily occupied Crimea region of Ukraine and covered regions of Ukraine;

• Clarification that U.S.-origin controlled content that meets the criteria in new § 746.10(a)(3) is excluded from de minimis calculations when identifying controlled U.S.-origin content to harmonize with similar exclusions under §§ 746.5 and 746.8;

• Clarification regarding which EAR section takes precedence when determining licensing requirements that apply to items identified in supplements no. 2, 4, or 5 to part 746 that are also classified in an ECCN under §§ 746.5, 746.8, and 746.10;

• Clarification that fasteners are excluded from the scope of supplement nos. 2, 4, 5, and 7, but are subject to the license requirements under § 744.21 for Russia and Belarus, as well as any other part 744 license requirement that applies to all items subject to the EAR;

• Harmonization of License Exceptions available under §§ 746.5, 746.8, and 746.10, except as limited in the introductory text of the respective paragraph (c);

• Clarification that “medicines” are excluded from the scope of supplement no. 6 to part 746;

• Conforming change to adopt case-by-case license review policy for applications related to the safety of flight under §§ 746.5 and 746.10 to conform with § 746.8; and

• Clarification that the import restrictions on the temporary import of firearms from Ukraine do not apply to firearms that were previously exported, reexported, or transferred (in-country) under a BIS license that are being temporarily returned to the United States for repair and servicing.

BIS anticipates that the changes discussed in section B will not result in the submission of any additional license applications to BIS.

1. Addition of exclusion from license requirements for deployments by the Armed Forces of Ukraine to or within the temporarily occupied Crimea region of Ukraine and covered regions of Ukraine.

In § 746.6, this rule adds an exclusion from the license requirements for exports, reexports, and transfers (in-country) to or within the temporarily occupied Crimea region of Ukraine and covered regions of Ukraine related to deployments made by the Armed Forces of Ukraine. This exclusion is added to facilitate the operations of the Armed Forces of Ukraine (AFU or ZSU) within the temporarily occupied Crimea region of Ukraine and covered regions of Ukraine. This change is intended to make their deployments more efficient and effective.

2. Clarification that U.S.-origin controlled content that meets the criteria in new § 746.10(a)(3) is also excluded from de minimis calculations when identifying controlled U.S.-origin content to harmonize with similar exclusions under §§ 746.5 and 746.8.

In § 746.10 (`Luxury goods' sanctions against Russia and Belarus and Russian and Belarusian oligarchs and malign actors), this rule adds a new paragraph (a)(3) (Exclusion from scope of U.S.-origin controlled content under paragraphs (a)(1) and (2) of this section). Currently, certain U.S.-origin EAR99 items are not considered U.S. controlled content for purposes of the EAR's de minimis rules when incorporated into foreign-made items reexported or exported from abroad from countries listed in supplement no. 3 to part 746 of the EAR (Countries Excluded from Certain License Requirements of §§ 746.6, 746.7, and 746.8). These exclusions are currently found in §§ 746.5(a)(3) and 746.8(a)(5) of the EAR. This addition to § 746.10 clarifies that the same de minimis exclusion applies to the luxury goods items identified in supplement no. 5 to part 746 of the EAR.

As a conforming change to the clarification to § 746.10, this final rule revises supplement no. 2 to part 734 (Guidelines for De Minimis Rules) by adding an appropriate cross-reference to the new paragraph (a)(3).

3. Clarification regarding which section takes precedence for items identified in supplements no. 2, 4, or 5 to part 746 that are also classified in an ECCN.

This rule revises the introductory text in §§ 746.5 and 746.10 and makes a conforming change to § 746.8 to clarify how exporters should treat items that are controlled to Russia or Belarus by more than one section of the EAR. Specifically, in §§ 746.5 and 746.10, this rule revises paragraph (a) introductory text to establish an order of review for purposes of the license requirements, license exceptions, and license review policies that apply to any item that is both classified in an Export Control Classification Number (ECCN) on the Commerce Control List (CCL) in supplement no. 1 to part 774, and identified in supplement no. 4, 5, or 6 to part 746. BIS has imposed export controls on Russia and Belarus under three different sections of the EAR, sometimes using different classification methods. Under § 746.5, BIS largely imposes controls on Russia using HTS-6 code (see supplement no. 4 to part 746 of the EAR) or description (see supplement no. 6 to part 746 of the EAR). Under § 746.10, BIS imposes controls on Russia using HTS-6 codes (see supplement no. 5 to part 746 of the EAR). However, under § 746.8, BIS largely imposes controls using ECCNs. Since nearly all items classified under ECCNs also can be classified under, for example, an HTS-6 code, there are some instances when an item may require a license under § 746.8 of the EAR, and under one of the other sections that imposes controls on Russia and Belarus.

In § 746.5, this rule adds two sentences to the end of the paragraph (a) introductory text to clarify two points. First, that a license is not required under § 746.5(a)(1)(ii) or (iii) for any item that is listed in supplement no. 4 or 6 and classified in an ECCN. Second, that exporters, reexporters, and transferors should consult § 746.8 for license requirements, license exceptions, and license review policies that apply to items classified under ECCNs. In this way, this amendment clarifies that controls in § 746.8 should be reviewed before controls in § 746.5. However, this rule does not make any changes to § 746.5(a)(1)(i), which imposes end-use specific controls on items described in supplement no. 2 to part 746. This is because that provision's end-use control applies more broadly than the destination scope in § 746.8, and that control continues to apply even for items listed in supplement no. 2 to part 746 and classified in an ECCN. For the same reason, in § 746.10, this rule revises the paragraph (a) introductory text to clarify two similar points as in § 746.5. First, that for purposes of § 746.10(a)(1), this rule specifies that a license is not required for any item that is listed in supplement no. 5 and classified in an ECCN. Second, this rule adds a sentence to direct exporters, reexporters, and transferors to see § 746.8 for license requirements, license exceptions, and license review policies for exports, reexports, and transfers to or within Russia or Belarus for items classified under ECCNs. This rule does not exclude any item that is listed in supplement no. 5 and is classified in an ECCN from the scope of the license requirements under § 746.10(a)(2) because this is a worldwide end-user license requirement, which has a much broader destination scope than § 746.8. Because of the narrowed scope of the ECCN controls under § 746.10, this rule removes the exclusion from the paragraph (a) introductory text for ECCNs 5A991, 5A992.c, and 5D992.c because it is no longer needed.

In § 746.8, this rule adds a sentence to the end of the paragraph (a) introductory text to specify that this section is used for determining license requirements for exports, reexports, and transfers to or within Russia or Belarus of any item that is listed in supplement nos. 4 through 6 and is classified in an ECCN. This rule also adds a second sentence to direct exporters, reexporters, and transferors to see §§ 746.5 and 746.10 for license requirements, license review policies, and license exceptions for exports, reexports, and transfers (in-country) to or within Russia or Belarus of any EAR99-designated item that is also listed in supplement nos. 4 through 6, and to also consult the end-use and end-user controls under part 744 of the EAR. This rule adds a third sentence to specify that this ECCN exclusion from the scope of the license requirements in §§ 746.5 and 746.10 is not applicable to the end-use license requirements imposed under § 746.5(a)(1)(i) or the end-user license requirements imposed under § 746.10(a)(2).

4. Clarification that fasteners are excluded from the scope of supplement nos. 2, 4, 5, and 7, but are subject to the license requirements under § 744.21 for Russia and Belarus, as well as any other part 744 license requirement that applies to all items subject to the EAR.

Supplement nos. 2, 4, 5, and 7 to part 746 include text that specifies that items described in each of these supplements include any modified or designed “components,” “parts,” “accessories,” and “attachments” therefor regardless of the HTS Code or HTS Description of the “components,” “parts,” “accessories,” and “attachments,” apart from any “part” or minor “component” that is a fastener (e.g., screw, bolt, nut, nut plate, stud, insert, clip, rivet, pin), washer, spacer, insulator, grommet, bushing, spring, wire, or solder. BIS has received questions from the public asking for confirmation whether a fastener (e.g., screw, bolt, nut, nut plate, stud, insert, clip, rivet, pin), washer, spacer, insulator, grommet, bushing, spring, wire, or solder, which are excluded from the scope of these three supplements and the license requirements under the respective §§ 746.5, 746.8, and 746.10, could therefore be exported, reexported, or transferred (in-country) to a Russian or Belarusian “military end user” or for a Russian or Belarusian “military end use.” A license would be required for such an export, reexport, or transfer (in-country) under § 744.21 (Restrictions on certain `military end uses' or `military end users'). In addition to clarifying this response to these questions, this rule revises the introductory text of supplement nos. 2, 4, and 5 to add two sentences to specify that although these fasteners (e.g., screws, bolts, nuts, nut plates, studs, inserts, clips, rivets, pins, washers, spacers, insulators, grommets, bushing, springs, wires, and solders) are excluded from the scope of these respective supplements, the exporter, reexporter, or transferor must also review part 744 for the license requirements for Russia and Belarus that extend to all items “subject to the EAR.”

5. Harmonization of License Exceptions available under §§ 746.5, 746.8 and 746.10, except as limited in the introductory text of the respective paragraph (c) paragraphs.

In §§ 746.5, 746.8, and 746.10, this rule revises paragraph (c) (License exceptions) for each of these three sections to adopt a common set of license exceptions that are available for the Russia and Belarus controls being implemented under part 746 of the EAR. In order to use any EAR License Exception, the export, reexport, or transfer (in-country) must not be otherwise restricted under § 740.2 and must meet all of the applicable terms and conditions of the referenced license exception. Because of the differences in scope between supplement nos. 2, 4, 5, and 6, as well as some of the differences referenced in §§ 746.5, 746.8, and 746.10, BIS has not allowed license exceptions for all Russia controls equally. In general, there have been good reasons for this; for example, there is no reason to add a license exception for a CCL item in a section of the EAR that does not apply to CCL items. However, BIS has found that in some cases, this approach to license exception eligibility has caused confusion, such as when a particular item is controlled under multiple provisions, only one of which is eligible for a particular license exception. This rule adopts a common set of license exceptions for all three sections. BIS notes that the change described under section B.3 of this rule (i.e., on order of review) will also likely reduce issues related to the inconsistent language in Russia-related sections of part 746 significantly, but to ensure the issue is addressed as fully as possible, this rule also adopts this common list of EAR License Exceptions that will be available under these three sections.

This rules also places the License Exceptions in numerical order for ease of reference under each of the paragraph (c) references. This rule does not adopt a common set of License Exceptions for § 746.6 (on the Temporarily occupied Crimea region of Ukraine and covered regions of Ukraine) and does not expand the scope of license exceptions available to overcome the end-user license requirements under § 746.10(a)(2) because changes are not warranted for those sections. For ease of reference, BIS has set out a short table below with the License Exceptions in one column and then three additional columns for §§ 746.5, 746.8, and 746.10 indicating the availability of each License Exception. For the column entries that indicate “Available” that section included this license exception eligibility prior to this rule. For any column that indicates “Eligibility added,” this rule is adding EAR License Exception eligibility for that respective section.

Table for Comparison of License Exception Eligibility Prior to This Rule and New License Exception Eligibility Added by This Rule

BIS cautions exporters, reexporters, and transferors that a license exception or portion of a license exception that is referenced as being available under §§ 746.5, 746.8, and 746.10 is only the first step in determining whether the referenced EAR license exception or portion of such license exception may actually be used. The exporter, reexporter, or transferor must then review § 740.2 to confirm that none of the general restrictions on the use of EAR License Exceptions apply, followed by a review to determine whether the contemplated transaction meets all of the applicable terms and conditions of the referenced license exception.

License exceptions | § 746.5 | § 746.8 | § 746.10
License Exception temporary exports and reexports (TMP) for items for use by the news media as set forth in § 740.9(a)(9) of the EAR | Eligibility added | Available | Eligibility added.
License Exception governments and international organizations (GOV) (§ 740.11(b)) | Available | Available | Eligibility added.
License Exception software updates (TSU) for software updates for civil end-users that are wholly-owned U.S. subsidiaries, branches, or sales offices, foreign subsidiaries, branches, or sales offices of U.S. companies that are joint ventures with other U.S. and companies, joint ventures of U.S. companies with companies headquartered in countries from Country Group A:5 and A:6 in supplement no. 1 to part 740 of the EAR countries, the wholly-owned subsidiaries, branches, or sales offices of companies headquartered in countries from Country Group A:5 and A:6 in supplement no. 1 to part 740, or joint ventures of companies headquartered in Country Group A:5 and A:6 with other companies headquartered in Country Groups A:5 and A:6 (§ 740.13(c) of the EAR) | Eligibility added | Available | Eligibility added.
License Exception baggage (BAG), excluding firearms and ammunition (§ 740.14, excluding paragraph (e), of the EAR) | Eligibility added | Available | Available.
License Exception aircraft, vessels and spacecraft (AVS), excluding any aircraft registered in, owned or controlled by, or under charter or lease by Russia or Belarus or a national of Russia or Belarus (§ 740.15(a) and (b) of the EAR) | Available | Available | Eligibility added. Note: A narrower subset of License Exception AVS was previously referenced, but for conformity with the other two sections this rule adopts the same License Exception AVS eligibility.
License Exception encryption commodities, software, and technology (ENC) for civil end-users that are wholly-owned U.S. subsidiaries, branches, or sales offices, foreign subsidiaries, branches, or sales offices of U.S. companies that are joint ventures with other U.S. companies, joint ventures of U.S. companies with companies headquartered in countries from Country Group A:5 and A:6 in supplement no. 1 to part 740 of the EAR countries, the wholly-owned subsidiaries, branches, or sales offices of companies headquartered in countries from Country Group A:5 and A:6 in supplement no. 1 to part 740, or joint ventures of companies headquartered in Country Group A:5 and A:6 with other companies headquartered in Country Groups A:5 and A:6 (§§ 740.13(c) and 740.17 of the EAR) | Eligibility added | Available | Eligibility added.
License Exception commodities and software authorized under License Exception consumer communications devices (CCD) (§ 740.19 of the EAR) | Available | Available | Available.

6. Clarification that “medicines” are excluded from the scope of supplement no. 6 to part 746.

In supplement no. 6 to part 746 (Russian and Belarusian Industry Sector Sanctions Pursuant to § 746.5(a)(1)(iii)), this rule adds one sentence to the end of the introductory text to the supplement to specify that this supplement does not include any item that meets the definition of “medicine” in § 772.1 of the EAR. Under the EAR, including Russia and Belarus sanctions, “medicines” means a “drug” as defined in section 201 of the Federal Food, Drug and Cosmetic Act (21 U.S.C. 321). For purposes of the EAR, medicine includes EAR99 prescription and over the counter medicines for humans and animals. This rule specifies here that certain medicines, such as certain vaccines and immunotoxins, are on the Commerce Control List and are not affected by this change.

7. Conforming change to adopt case-by-case license review policy for applications related to safety of flight under §§ 746.5 and 746.10 to conform with § 746.8.

This rule also makes a conforming change to the licensing policy in §§ 746.5(b)(2) and 746.10(b) to add applications related to safety of flight to the case-by-case license review policy under these two sections for consistency with the licensing policy in § 746.8(b). This conforming change is made because certain EAR99 items used in aircraft that may be related to safety of flight are identified in supplement nos. 4 and 5 and license applications for these items should be reviewed consistently with the license review policy in § 746.8. Specifically, in § 746.5, this rule adds a new paragraph (b)(2)(i) to add applications related to safety of flight to the case-by-case license review policy and redesignates existing paragraphs (b)(2)(i) through (v) as paragraphs (b)(2)(ii) through (vi), respectively. In § 746.10, this rule revises paragraph (b) (Licensing policy) to add a new paragraph (b)(1) (Presumption of denial) and adds a new paragraph (b)(2) (Case-by-case) to specify the license applications that will be reviewed under a case-by-case licensing policy. This rule adds a new paragraph (b)(2)(i) for the case-by-case licensing policy for applications related to safety of flight and adds new paragraphs (b)(2)(ii) and (iii) for the previous case-by-case licensing policies that already applied under paragraph (b) of § 746.10.

BIS reminds applicants that BIS and the other license review agencies have used a narrow and restrictive interpretation of what items would qualify for the “related to safety of flight” category set forth in § 746.8(b)(2)(i). When BIS originally added the case-by-case license review policy to § 746.8(b), BIS provided guidance as part of BIS's outreach on the Russia sanctions, such as at BIS conferences and outreach seminars, to clarify that falling within this safety of flight-related category would have to satisfy a strict standard and would not apply broadly to all items used on an aircraft, but only to those items without which an aircraft would be unable to be safely operated. BIS does not intend that this category apply to aircraft that are in “production,” only those that require safety-critical items in an emergency. Since that time, BIS has consistently maintained this position in its review of applications as well as in outreach efforts.

8. Clarification that the import restriction on the temporary import of firearms from Ukraine does not apply to firearms that were previously exported, reexported, or transferred (in-country) under a BIS license that are being temporarily returned for repair and servicing.

BIS has authorized under BIS licenses the export and reexport to Ukraine of various firearms subject to the EAR since the Russian invasion of Ukraine. BIS has received questions from the public on whether it would be permissible to temporarily return those firearms to the United States for repair and servicing and to subsequently return those firearms under License Exception Replacement of Parts and Equipment (RPL) (§ 740.10(b)) or under a new BIS license if the capabilities of the firearms were changed as a result of such repair and servicing. BIS will be updating the “Exports of Firearms and Related Items FAQs” on the BIS website at https://www.bis.doc.gov/index.php/documents/policy-guidance/2572-faqs-for-the-commerce-category-i-iii-firearms-rule-posted-on-bis-website-7-7-20/file to address this question. Because of the importance of the answer to this question for Ukraine's continued ability to receive these items as part of its defense against Russia's war of aggression, and to inform as many exporters, reexporters, and transferors (in-country) as possible, BIS is also publishing this new firearms frequently asked question (FAQ) in the preamble of this rule. U.S. origin firearms originally provided to Ukraine pursuant to a BIS license may be temporarily imported pursuant to the EAR for repair or for replacement under License Exception RPL (15 CFR 740.10(b)(4)(i)) for return to Ukraine for use in its defense against Russia's war of aggression, because such activity is consistent with the EAR and U.S. foreign policy.

Q: My company exported 500 firearms classified under ECCN 0A501.a under a BIS license to Ukraine in 2022. These rifles are not specified under Annex A in supplement no. 4 to part 740. At this time, the consignee in Ukraine needs to temporarily return 50 of the rifles that they received under a BIS license to my company in the United States for repair and servicing. I have reviewed the general restrictions under 15 CFR 740.2 and the applicable terms and conditions under License Exception RPL under 15 CFR 740.10(b) and believe the export would meet the terms of using License Exception RPL, except I have a question on the applicability of the restriction under 15 CFR 740.10(b)(4)(i) that specifies that “[t]he firearms were not shipped from or manufactured in Russia, Georgia, Kazakhstan, Kyrgyzstan, Moldova, Turkmenistan, Ukraine, or Uzbekistan, except for any firearm model controlled by 0A501 that is specified under Annex A in Supplement No. 4 to this part.” Does this restriction apply for temporarily importing firearms from Ukraine that were received in Ukraine under a BIS license or other U.S. Government authorization that will subsequently be authorized under License Exception RPL? Can you also confirm whether your answer to this License Exception RPL question would also apply to the same restriction that is also found under 15 CFR 740.9(b)(5)(ii) for exports of firearms and certain shotguns temporarily in the United States and in supplement no. 2 to part 748, paragraph (z) certification requirement for exports of firearms and certain shotguns temporarily in the United States?

A: The restrictions under 15 CFR 740.10(b)(4)(i) and 740.9(b)(5)(ii) and the certification requirement for BIS licenses under supplement no. 2 to part 748, paragraph (z) do not apply to temporary imports into the U.S. of any firearm that is subject to the EAR that was exported, reexported to, or transferred within Ukraine under a BIS authorization or a Department of State authorization under the 22 CFR 120.5(b) process.

Savings Clause

For the changes being made in this final rule, shipments of items removed from eligibility for a License Exception or export, reexport, or transfer (in-country) without a license (NLR) as a result of this regulatory action that were en route aboard a carrier to a port of export, reexport, or transfer (in-country), on January 23, 2024, pursuant to actual orders for export, reexport, or transfer (in-country) to or within a foreign destination, may proceed to that destination under the previous eligibility for a License Exception or export, reexport, or transfer (in-country) without a license (NLR), provided the export, reexport, or transfer (in-country) is completed no later than on February 22, 2024.

Export Control Reform Act of 2018

On August 13, 2018, the President signed into law the John S. McCain National Defense Authorization Act for Fiscal Year 2019, which included the Export Control Reform Act of 2018 (ECRA) (codified, as amended, at 50 U.S.C. 4801-4852). ECRA provides the legal basis for BIS's principal authorities and serves as the authority under which BIS issues this rule. To the extent it applies to certain activities that are the subject of this rule, the Trade Sanctions Reform and Export Enhancement Act of 2000 (TSRA) (codified, as amended, at 22 U.S.C. 7201-7211) also serves as authority for this rule.

Rulemaking Requirements

1. BIS has examined the impact of this rule as required by Executive Orders 12866, 13563, and 14094, which direct agencies to assess all costs and benefits of available regulatory alternatives and, if regulation is necessary, to select regulatory approaches that maximize net benefits (including potential economic, environmental, public, health, and safety effects, distributive impacts, and equity). This final rule has been determined to be not significant for purposes of Executive Order 12866.

2. Notwithstanding any other provision of law, no person is required to respond to, nor shall any person be subject to a penalty for failure to comply with, a collection of information subject to the requirements of the Paperwork Reduction Act of 1995 (44 U.S.C. 3501 et seq.) (PRA), unless that collection of information displays a currently valid Office of Management and Budget (OMB) Control Number.

This rule involves the following OMB-approved collections of information subject to the PRA:

• 0694-0088, “Multi-Purpose Application,” which carries a burden hour estimate of 29.4 minutes for a manual or electronic submission;

• 0694-0096 “Five Year Records Retention Period,” which carries a burden hour estimate of less than 1 minute; and

• 0607-0152 “Automated Export System (AES) Program,” which carries a burden hour estimate of 3 minutes per electronic submission.

BIS estimates that these new controls on Russia, Belarus, and Iran under the EAR will result in an increase of 35 license applications submitted annually to BIS. However, the additional burden falls within the existing estimates currently associated with these control numbers. Additional information regarding these collections of information—including all background materials—can be found at https://www.reginfo.gov/public/do/PRAMain by using the search function to enter either the title of the collection or the OMB Control Number.

3. This rule does not contain policies with federalism implications as that term is defined in Executive Order 13132.

4. Pursuant to section 1762 of the Export Control Reform Act of 2018 (50 U.S.C. 4821) (ECRA), this action is exempt from the Administrative Procedure Act (APA) (5 U.S.C. 553) requirements for notice of proposed rulemaking, opportunity for public participation, and delay in effective date. While section 1762 of ECRA provides sufficient authority for such an exemption, this action is also independently exempt from these APA requirements because it involves a military or foreign affairs function of the United States (5 U.S.C. 553(a)(1)).

5. Because a notice of proposed rulemaking and an opportunity for public comment are not required to be given for this rule by 5 U.S.C. 553, or by any other law, the analytical requirements of the Regulatory Flexibility Act, 5 U.S.C. 601, et seq., are not applicable. Accordingly, no regulatory flexibility analysis is required, and none has been prepared.

List of Subjects

15 CFR Part 734

Administrative practice and procedure, Exports, Inventions and patents, Research, Science and technology.

15 CFR Part 746

Exports, Reporting and recordkeeping requirements.

For the reasons stated in the preamble, parts 734 and 746 of the Export Administration Regulations (15 CFR parts 730 through 774) are amended as follows:

PART 734—SCOPE OF THE EXPORT ADMINISTRATION REGULATIONS

1. The authority citation for 15 CFR part 734 continues to read as follows:

Authority: 50 U.S.C. 4801-4852; 50 U.S.C. 4601 et seq.; 50 U.S.C. 1701 et seq.; E.O. 12938, 59 FR 59099, 3 CFR, 1994 Comp., p. 950; E.O. 13020, 61 FR 54079, 3 CFR, 1996 Comp., p. 219; E.O. 13026, 61 FR 58767, 3 CFR, 1996 Comp., p. 228; E.O. 13222, 66 FR 44025, 3 CFR, 2001 Comp., p. 783; E.O. 13637, 78 FR 16129, 3 CFR, 2014 Comp., p. 223; Notice of November 8, 2022, 87 FR 68015, 3 CFR, 2022 Comp., p. 563.

2. Section 734.4 is amended by revising paragraph (a)(6)(ii) to read as follows:

§ 734.4 De minimis U.S. content.

(a) * * *

(6) * * *

(ii) There is no de minimis level for foreign-made items that incorporate U.S.-origin 9x515 or “600 series” .y items when destined for a country listed in Country Group E:1 or E:2 of supplement no. 1 to part 740 of the EAR or for Belarus, the People's Republic of China (PRC), or Russia.

* * * * *

3. Supplement no. 2 to part 734 is amended by revising the third sentence of paragraph (a)(1) to read as follows:

Supplement No. 2 to Part 734—Guidelines for De Minimis Rules

(a) * * *

(1) * * * For purposes of identifying U.S.-origin controlled content, you should consult the Commerce Country Chart in supplement no. 1 to part 738 of the EAR and controls described in part 746 of the EAR (excluding U.S.-origin content that meets the criteria in § 746.5(a)(3), § 746.7(a)(1)(v), § 746.8(a)(5), or § 746.10(a)(3)). * * *

* * * * *

PART 746—EMBARGOES AND OTHER SPECIAL CONTROLS

4. The authority citation for 15 CFR part 746 continues to read as follows:

Authority: 50 U.S.C. 4801-4852; 50 U.S.C. 4601 et seq.; 50 U.S.C. 1701 et seq.; 22 U.S.C. 287c; Sec 1503, Pub. L. 108-11, 117 Stat. 559; 22 U.S.C. 2151 note; 22 U.S.C. 6004; 22 U.S.C. 7201 et seq.; 22 U.S.C. 7210; E.O. 12854, 58 FR 36587, 3 CFR, 1993 Comp., p. 614; E.O. 12918, 59 FR 28205, 3 CFR, 1994 Comp., p. 899; E.O. 13222, 66 FR 44025, 3 CFR, 2001 Comp., p. 783; E.O. 13338, 69 FR 26751, 3 CFR, 2004 Comp., p 168; Presidential Determination 2003-23, 68 FR 26459, 3 CFR, 2004 Comp., p. 320; Presidential Determination 2007-7, 72 FR 1899, 3 CFR, 2006 Comp., p. 325; Notice of May 810, 2023, 88 FR 30211 (May 10, 2023).

5. Section 746.5 is amended by:

a. Revising paragraph (a) introductory text;

b. Redesignating paragraphs (b)(2)(i) through (v) as paragraphs (b)(2)(ii) through (vi), respectively;

c. Adding a new paragraph (b)(2)(i); and

d. Revising paragraph (c).

The revisions and addition read as follows:

§ 746.5 Russian and Belarusian industry sector sanctions.

(a) License requirements. For purposes of paragraphs (a)(1)(i) through (iii) of this section, a license is not required for deemed exports and deemed reexports. For purposes of paragraphs (a)(1)(ii) and (iii) of this section, a license is not required for any item that is listed in supplement no. 4 or 6 to this part that is also classified in an Export Control Classification Number (ECCN) on the Commerce Control List (CCL) in supplement no. 1 to part 774 of the EAR. See § 746.8 for license requirements, license exceptions, and license review policies for exports, reexports, and transfers to or within Russia or Belarus for items classified in ECCNs.

* * * * *

(b) * * *

(2) * * *

(i) Applications related to safety of flight;

* * * * *

(c) License exceptions. No license exceptions may overcome the license requirements set forth in this section, except the license exceptions identified in paragraphs (c)(2) and (7) of this section.

(1) License Exception TMP for items for use by the news media as set forth in § 740.9(a)(9) of the EAR.

(2) License Exception GOV (§ 740.11(b) of the EAR).

(3) License Exception TSU for software updates for civil end-users that are wholly-owned U.S. subsidiaries, branches, or sales offices, foreign subsidiaries, branches, or sales offices of U.S. companies that are joint ventures with other U.S. and companies, joint ventures of U.S. companies with companies headquartered in countries from Country Group A:5 and A:6 in supplement no. 1 to part 740 of the EAR countries, the wholly-owned subsidiaries, branches, or sales offices of companies headquartered in countries from Country Group A:5 and A:6 in supplement no. 1 to part 740, or joint ventures of companies headquartered in Country Group A:5 and A:6 with other companies headquartered in Country Groups A:5 and A:6 (§ 740.13(c) of the EAR).

(4) License Exception BAG, excluding firearms and ammunition (§ 740.14, excluding paragraph (e), of the EAR).

(5) License Exception AVS, excluding any aircraft registered in, owned or controlled by, or under charter or lease by Russia or Belarus or a national of Russia or Belarus (§ 740.15(a) and (b) of the EAR).

(6) License Exception encryption commodities, software, and technology (ENC) for civil end-users that are wholly-owned U.S. subsidiaries, branches, or sales offices, foreign subsidiaries, branches, or sales offices of U.S. companies that are joint ventures with other U.S. companies, joint ventures of U.S. companies with companies headquartered in countries from Country Group A:5 and A:6 in supplement no. 1 to part 740 of the EAR countries, the wholly-owned subsidiaries, branches, or sales offices of companies headquartered in countries from Country Group A:5 and A:6 in supplement no. 1 to part 740, or joint ventures of companies headquartered in Country Group A:5 and A:6 with other companies headquartered in Country Groups A:5 and A:6 (§§ 740.13(c) and 740.17 of the EAR).

(7) License Exception CCD (§ 740.19 of the EAR).

6. Section 746.6 is amended by adding paragraph (a)(5) to read as follows:

§ 746.6 Temporarily occupied Crimea region of Ukraine and covered regions of Ukraine.

(a) * * *

(5) Exclusion for deployments by the Government of Ukraine to or within the temporarily occupied Crimea region of Ukraine or covered regions of Ukraine. The license requirements of paragraph (a) of this section do not apply to exports, reexports, and transfers (in country) used in or for deployments by the Government of Ukraine to or within the temporarily occupied Crimea region of Ukraine or covered regions of Ukraine.

* * * * *

7. Section 746.8 is amended by:

a. Adding three sentences to the end of paragraph (a) introductory text; and

b. Revising paragraph (c).

The additions and revision read as follows:

§ 746.8 Sanctions against Russia and Belarus.

(a) * * * This section is also used for determining license requirements for exports, reexports, and transfers to or within Russia or Belarus of any item that is listed in supplement nos. 4 through 6 to this part and is classified in an Export Control Classification Number (ECCN) on the Commerce Control List (CCL) in supplement no. 1 to part 774 of the EAR. See §§ 746.5 and 746.10 for license requirements, license review policies, and license exceptions for exports, reexports, and transfers (in-country) to or within Russia or Belarus of any EAR99-designated item that is also listed in supplement nos. 4 through 6 and the end-use and end-user controls under part 744 of the EAR. This ECCN exclusion from the scope of the license requirements from §§ 746.5 and 746.10 is not applicable to the end-use license requirements imposed under § 746.5(a)(1)(i) or the end-user license requirements imposed under § 746.10(a)(2).

* * * * *

(c) License exceptions. No license exceptions may overcome the license requirements in paragraph (a)(3) of this section, except as specified in the Entity List entry for a Footnote 3 entity on the Entity List in supplement no. 4 to part 744 of the EAR. No license exceptions may overcome the license requirements in paragraphs (a)(1) and (2) of this section except the license exceptions identified in paragraphs (c)(1) through (7) of this section.

(1) License Exception TMP for items for use by the news media as set forth in § 740.9(a)(9) of the EAR.

(2) License Exception GOV (§ 740.11(b) of the EAR).

(3) License Exception TSU for software updates for civil end-users that are wholly-owned U.S. subsidiaries, branches, or sales offices, foreign subsidiaries, branches, or sales offices of U.S. companies that are joint ventures with other U.S. and companies, joint ventures of U.S. companies with companies headquartered in countries from Country Group A:5 and A:6 in supplement no. 1 to part 740 of the EAR countries, the wholly-owned subsidiaries, branches, or sales offices of companies headquartered in countries from Country Group A:5 and A:6 in supplement no. 1 to part 740, or joint ventures of companies headquartered in Country Group A:5 and A:6 with other companies headquartered in Country Groups A:5 and A:6 (§ 740.13(c) of the EAR).

(4) License Exception BAG, excluding firearms and ammunition (§ 740.14, excluding paragraph (e), of the EAR).

(5) License Exception AVS, excluding any aircraft registered in, owned or controlled by, or under charter or lease by Russia or Belarus or a national of Russia or Belarus (§ 740.15(a) and (b) of the EAR).

(6) License Exception ENC for civil end-users that are wholly-owned U.S. subsidiaries, branches, or sales offices, foreign subsidiaries, branches, or sales offices of U.S. companies that are joint ventures with other U.S. companies, joint ventures of U.S. companies with companies headquartered in countries from Country Group A:5 and A:6 in supplement no. 1 to part 740 of the EAR countries, the wholly-owned subsidiaries, branches, or sales offices of companies headquartered in countries from Country Group A:5 and A:6 in supplement no. 1 to part 740, or joint ventures of companies headquartered in Country Group A:5 and A:6 with other companies headquartered in Country Groups A:5 and A:6 (§§ 740.13(c) and 740.17 of the EAR).

(7) License Exception CCD (§ 740.19 of the EAR).

8. Section 746.10 is amended by:

a. Revising paragraph (a) introductory text;

b. Adding paragraph (a)(3); and

c. Revising paragraphs (b) and (c).

The revisions and additions read as follows:

§ 746.10 `Luxury goods' sanctions against Russia and Belarus and Russian and Belarusian oligarchs and malign actors.

(a) License requirements. For purposes of paragraph (a)(1) of this section, a license is not required for any item that is listed in supplement no. 5 to this part that is also classified in an Export Control Classification Number (ECCN) on the Commerce Control List (CCL) in supplement no. 1 to part 774 of the EAR. See § 746.8 for license requirements, license exceptions, and license review policies for exports, reexports, and transfers to or within Russia or Belarus for items classified in ECCNs.

* * * * *

(3) Exclusion from scope of U.S.-origin controlled content under paragraphs (a)(1) and (2) of this section. For purposes of determining U.S.-origin controlled content under supplement no. 2 to part 734 of the EAR when making a de minimis calculation for reexports and exports from abroad to Russia or Belarus, the license requirements in paragraphs (a)(1) and (2) of this section are not used to determine controlled U.S.-origin content in a foreign-made item, provided the criteria in paragraphs (a)(3)(i) and (ii) of this section are met:

(i) The U.S.-origin content is described in supplement no. 5 to this part and is not otherwise excluded from the applicable Scope column in supplement no. 3 to this part; and

(ii) The foreign made item will be reexported or exported from abroad from a country described in supplement no. 3 to this part.

* * * * *

(b) Licensing policy—(1) Presumption of denial. Applications for the export, reexport, or transfer (in-country) of any item that requires a license for pursuant to the requirements of this section will be reviewed with a policy of denial, except as specified in paragraph (b)(2) of this section.

(2) Case-by-case. The following types of license applications will be reviewed on a case-by-case basis to determine whether the transaction in question would benefit the Russian or Belarusian Government or defense sector:

(i) Applications related to safety of flight;

(ii) Applications involving items to meet humanitarian needs. The case-by-case license application review policy for items to meet humanitarian needs is included to address certain `luxury goods' items that may be used in medical devices or situations in which a case-by-case analysis is needed to determine whether a license application should be approved to meet humanitarian needs while also taking into account the applicable broader U.S. national security and foreign policy concerns; and

(iii) Applications for the disposition of items by companies not headquartered in Country Group D:1, D:5, E:1 or E:2 in supplement no. 1 to part 740 of the EAR that are curtailing or closing all operations in Russia or Belarus; and replacement licenses for exports and reexports to and transfers within Russia and Belarus to add items described in Harmonized Tariff Schedule (HTS)-6 Codes that were added to the EAR after the effective validation date of the BIS license. See also § 750.7(c)(1)(xi) of the EAR for the divesture of items within Russia or Belarus or the transfer of items within Russia or Belarus for the purpose of reexporting from Russia or Belarus. For purposes of § 750.7(c)(1)(xi), divesture means the action or process of selling off subsidiary business interests or investments involving items subject to the EAR.

(c) License exceptions. No license exceptions may overcome the license requirements in paragraph (a)(1) of this section except the license exceptions identified in paragraphs (c)(1) through (3) of this section. No license exceptions may overcome the license requirements in paragraph (a)(2) of this section.

(1) License Exception TMP for items for use by the news media as set forth in § 740.9(a)(9) of the EAR.

(2) License Exception GOV (§ 740.11(b) of the EAR).

(3) License Exception TSU for software updates for civil end-users that are wholly-owned U.S. subsidiaries, branches, or sales offices, foreign subsidiaries, branches, or sales offices of U.S. companies that are joint ventures with other U.S. and companies, joint ventures of U.S. companies with companies headquartered in countries from Country Group A:5 and A:6 in supplement no. 1 to part 740 of the EAR countries, the wholly-owned subsidiaries, branches, or sales offices of companies headquartered in countries from Country Group A:5 and A:6 in supplement no. 1 to part 740, or joint ventures of companies headquartered in Country Group A:5 and A:6 with other companies headquartered in Country Groups A:5 and A:6 (§ 740.13(c) of the EAR).

(4) License Exception BAG, excluding firearms and ammunition (§ 740.14, excluding paragraph (e), of the EAR).

(5) License Exception AVS, excluding any aircraft registered in, owned or controlled by, or under charter or lease by Russia or Belarus or a national of Russia or Belarus (§ 740.15(a) and (b) of the EAR).

(6) License Exception ENC for civil end-users that are wholly-owned U.S. subsidiaries, branches, or sales offices, foreign subsidiaries, branches, or sales offices of U.S. companies that are joint ventures with other U.S. companies, joint ventures of U.S. companies with companies headquartered in countries from Country Group A:5 and A:6 in supplement no. 1 to part 740 of the EAR countries, the wholly-owned subsidiaries, branches, or sales offices of companies headquartered in countries from Country Group A:5 and A:6 in supplement no. 1 to part 740, or joint ventures of companies headquartered in Country Group A:5 and A:6 with other companies headquartered in Country Groups A:5 and A:6 (§§ 740.13(c) and 740.17 of the EAR).

(7) License Exception CCD (§ 740.19 of the EAR).

9. Supplement no. 2 to part 746 is amended by adding a sentence following the second sentence of paragraph (a) to read as follows:

Supplement No. 2 to Part 746—Russian and Belarusian Industry Sector Sanction List Pursuant to § 746.5(a)(1)(i)

(a) * * * Although fasteners (e.g., screws, bolts, nuts, nut plates, studs, inserts, clips, rivets, pins), washers, spacers, insulator, grommets, bushings, springs, wires, and solders are excluded from the scope of this supplement, see part 744 of the EAR for license requirements for Russia and Belarus that extend to all items “subject to the EAR,” e.g., § 744.21 of the EAR and the Entity List license requirements, which in most cases extend to all items “subject to the EAR.” * * *

* * * * *

10. Supplement no. 4 to part 746 is amended by:

a. Adding a sentence following the second sentence of paragraph (a); and

b. Adding in numerical order the following entries to the table: “270111,” “270112,” “270119,” “270120,” “270210,” “270220,” “270300,” “270400,” “270720,” “270730,” “270820,” “271019,” “271210,” “271290,” “271500,” “280110,” “280200,” “280410,” “280430,” “280461,” “280470,” “280480,” “280511,” “280610,” “280620,” “281111,” “281129,” “281310,” “281410,” “281420,” “281512,” “281830,” “281990,” “282010,” “282731,” “282732,” “282735,” “282751,” “282890,” “282990,” “283220,” “283324,” “283330,” “283410,” “283630,” “283650,” “283990,” “284030,” “284150,” “284180,” “284310,” “284329,” “284330,” “284910,” “320611,” “391220,” “401699,” “540249,” “591190,” “680520,” “681299,” “690919,” “701990,” “811241,” “811249,” “820411,” “820559,” “820790,” “880100,” “880211,” “880212,” “880220,” “880230,” “880240,” “880260,” “880400,” “880510,” “880521,” “880529,” “880610,” “880621,” “880622,” “880623,” “880624,” “880629,” “880691,” “880692,” “880693,” “880694,” “880699,” “880710,” “880720,” “880730,” and “880790”.

The additions read as follows:

Supplement No. 4 to Part 746—Russian and Belarusian Industry Sector Sanctions Pursuant to § 746.5(a)(1)(ii)

(a) * * * Although fasteners (e.g., screws, bolts, nuts, nut plates, studs, inserts, clips, rivets, pins), washers, spacers, insulators, grommets, bushings, springs, wires, and solders are excluded from the scope of this supplement, see part 744 of the EAR for license requirements for Russia and Belarus that extend to all items “subject to the EAR,” e.g., § 744.21 of the EAR and the Entity List license requirements, which in most cases extend to all items “subject to the EAR.” * * *

* * * * *

HTS-6 code | HTS description
* * * * * * *
270111 | ANTHRACITE COAL, WHETHER OR NOT PULVERIZED, BUT NOT AGGLOMERATED.
270112 | BITUMINOUS COAL, WHETHER OR NOT PULVERIZED, BUT NOT AGGLOMERATED.
270119 | COAL, OTHER THAN ANTHRACITE OR BITUMINOUS, WHETHER OR NOT PULVERIZED, BUT NOT AGGLOMERATED.
270120 | BRIQUETTES, OVOIDS AND SIMILAR SOLID FUELS FROM COAL.
270210 | LIGNITE, NOT AGGLOMERATED, EXCLUDING JET.
270220 | AGGLOMERATED LIGNITE, EXCLUDING JET.
270300 | PEAT (INCLUDING PEAT LITTER) WHETHER OR NOT AGGLOMERATED.
270400 | COKE AND SEMICOKE OF COAL, OF LIGNITE OR OF PEAT, WHETHER OR NOT AGGLOMERATED; RETORT CARBON.
270720 | TOLUENE.
270730 | XYLENES.
270820 | PITCH COKE FROM COAL AND OTHER MINERAL TARS.
271019 | PETROLEUM OILS, OILS FROM BITUMINOUS MINERALS (OTHER THAN CRUDE) & PRODUCTS CONTAINING BY WEIGHT GT=70% OR MORE OF THESE OILS, NOT BIODIESEL OR WASTE.
271210 | PETROLEUM JELLY.
271290 | MICROCRYSTALLINE PETROLEUM WAX, SLACK WAX, OZOKERITE, LIGNITE WAX, PEAT WAX, OTHER MINERAL WAXES, AND SIMILAR PRODUCTS, NESOI.
271500 | BITUMINOUS MIXTURES BASED ON NATURAL ASPHALT, NATURAL BITUMEN, PETROLEUM BITUMEN, MINERAL TAR OR MINERAL TAR PITCH.
280110 | CHLORINE.
280200 | SULFUR, SUBLIMED OR PRECIPITATED; COLLODIAL SULFUR.
280410 | HYDROGEN.
280430 | NITROGEN.
280461 | SILICON, CONTAINING BY WEIGHT NOT LESS THAN 99.99% OF SILICON.
280470 | PHOSPHORUS.
280480 | ARSENIC.
280511 | SODIUM.
280610 | HYDROGEN CHLORIDE (HYDROCHLORIC ACID).
280620 | CHLOROSULFURIC ACID.
281111 | HYDROGEN FLUORIDE (HYDROFLUORIC ACID).
281129 | INORGANIC OXYGEN COMPOUNDS OF NONMETALS, NESOI.
281310 | CARBON DISULFIDE.
281410 | ANHYDROUS AMMONIA.
281420 | AMMONIA IN AQUEOUS SOLUTION.
281512 | SODIUM HYDROXIDE (CAUSTIC SODA), IN AQUEOUS SOLUTION (SODA LYE OR LIQUID SODA).
* * * * * * *
281830 | ALUMINUM HYDROXIDE.
281990 | CHROMIUM OXIDES AND HYDRIDES, EXCEPT CHROMIUM TRIOXIDE, NESOI.
282010 | MANGANESE DIOXIDE.
* * * * * * *
282731 | MAGNESIUM CHLORIDE.
282732 | ALUMINUM CHLORIDE.
282735 | NICKEL CHLORIDE.
282751 | BROMIDES OF SODIUM OR OF POTASSIUM.
282890 | HYPOCHLORITES, CHLORITES, AND HYPOBROMITES, NESOI.
* * * * * * *
282990 | PERCHLORATES; BROMATES AND PERBROMATES; IODATES AND PERIODATES.
283220 | SULFITES, EXCEPT SODIUM SULFITES, NESOI.
283324 | NICKEL SULFATE.
283330 | ALUMS.
283410 | NITRITES.
* * * * * * *
283630 | SODIUM HYDROGENCARBONATE (SODIUM BICARBONATE).
283650 | CALCIUM CARBONATE.
283990 | SILICATES; COMMERCIAL ALKALI METAL SILICATES, NESOI.
284030 | PEROXOBORATES (PERBORATES).
284150 | CHROMATES AND DICHROMATES, NESOI; PEROXOCHROMATES.
284180 | TUNGSTATES (WOLFRAMATES).
284310 | COLLOIDAL PRECIOUS METALS.
284329 | SILVER COMPOUNDS, EXCEPT SILVER NITRATE, NESOI.
284330 | GOLD COMPOUNDS.
* * * * * * *
284910 | CARBIDES OF CALCIUM, WHETHER OR NOT CHEMICALLY DEFINED.
* * * * * * *
320611 | PIGMENTS AND PREPARATIONS CONTAINING 80% OR MORE BY WEIGHT OF TITANIUM DIOXIDE CALCULATED ON THE DRY MATTER.
* * * * * * *
391220 | CELLULOSE NITRATES (INCLUDING COLLODIONS), IN PRIMARY FORMS.
* * * * * * *
401699 | ARTICLES OF VULCANIZED RUBBER OTHER THAN HARD RUBBER, NESOI.
* * * * * * *
540249 | SYNTHETIC FILAMENT YARN EXCEPT SEWING THREAD, NOT FOR RETAIL SALE, SINGLE YARN NESOI, NOT OVER 50 TURNS PER METER IF TWISTED, OF YARNS NESOI.
* * * * * * *
591190 | TEXTILE PRODUCTS AND ARTICLES FOR TECHNICAL USES NESOI.
* * * * * * *
680520 | ABRASIVE POWDER OR GRAIN, ON A BASE OF PAPER OR PAPERBOARD ONLY.
* * * * * * *
681299 | ARTICLES OF FABRICATED ASBESTOS FIBERS AND ARTICLES OF ASBESTOS MIXTURES, NESOI.
* * * * * * *
690919 | CERAMIC WARES FOR LABORATORY, CHEMICAL OR OTHER TECHNICAL USES, OF OTHER THAN PORCELAIN OR CHINA, NESOI.
* * * * * * *
701990 | GLASS FIBERS AND ARTICLES THEREOF NESOI.
* * * * * * *
811241 | GALLIUM, HAFNIUM, INDIUM, NIOBIUM (COLUMBIUM), RHENIUM & ARTICLES OF THESE METALS, INCLUDING WASTE & SCRAP.
811249 | GALLIUM, HAFNIUM, INDIUM, NIOBIUM (COLUMBIUM), RHENIUM AND THALLIUM AND ARTICLES THEREOF, NESOI.
* * * * * * *
820411 | SPANNERS AND WRENCHES, HAND-OPERATED, NON-ADJUSTABLE, AND PARTS THEREOF, OF BASE METAL.
820559 | HANDTOOLS NESOI, AND PARTS THEREOF, OF BASE METAL.
* * * * * * *
820790 | INTERCHANGEABLE TOOLS NESOI, AND PARTS THEREOF, OF BASE METAL.
* * * * * * *
880100 | HANG GLIDERS, GLIDERS, BALLOONS, DIRIGIBLES AND OTHER NON-POWERED AIRCRAFT.
880211 | HELICOPTERS OF AN UNLADEN WEIGHT NOT EXCEEDING 2,000 KG.
880212 | HELICOPTERS OF AN UNLADEN WEIGHT EXCEEDING 2,000 KG.
880220 | AIRPLANES AND OTHER AIRCRAFT NESOI, OF AN UNLADEN WEIGHT NOT EXCEEDING 2,000 KG.
880230 | AIRPLANES AND OTHER AIRCRAFT NESOI, OF AN UNLADEN WEIGHT EXCEEDING 2,000 KG BUT NOT EXCEEDING 15,000 KG.
880240 | AIRPLANES AND OTHER AIRCRAFT NESOI, OF AN UNLADEN WEIGHT EXCEEDING 15,000 KG.
880260 | SPACECRAFT (INCLUDING SATELLITES) AND SUBORBITAL AND SPACECRAFT LAUNCH VEHICLES.
880400 | PARACHUTES (INCLUDING DIRIGIBLE PARACHUTES AND PARAGLIDERS) AND ROTOCHUTES; PARTS THEREOF AND ACCESSORIES THERETO.
880510 | AIRCRAFT LAUNCHING GEAR AND PARTS THEREOF; DECK-ARRESTORS OR SIMILAR GEAR AND PARTS THEREOF.
880521 | AIR COMBAT SIMULATORS AND PARTS THEREOF.
880529 | GROUND FLYING TRAINERS AND PARTS THEREOF, NESOI.
880610 | UNMANNED AIRCRAFT DESIGNED FOR THE CARRIAGE OF PASSENGERS.
880621 | UNMANNED AIRCRAFT FOR REMOTE-CONTROLLED FLIGHT ONLY, WITH MAXIMUM TAKE-OFF WEIGHT NOT MORE THAN 250 G.
880622 | UNMANNED AIRCRAFT FOR REMOTE-CONTROLLED FLIGHT ONLY, WITH MAXIMUM TAKE-OFF WEIGHT MORE THAN 250 G BUT NOT MORE THAN 7 KG.
880623 | UNMANNED AIRCRAFT FOR REMOTE-CONTROLLED FLIGHT ONLY, WITH MAXIMUM TAKE-OFF WEIGHT MORE THAN 7 KG BUT NOT MORE THAN 25 KG.
880624 | UNMANNED AIRCRAFT FOR REMOTE-CONTROLLED FLIGHT ONLY, WITH MAXIMUM TAKE-OFF WEIGHT MORE THAN 25 KG BUT NOT MORE THAN 150 KG.
880629 | UNMANNED AIRCRAFT FOR REMOTE-CONTROLLED FLIGHT ONLY, WITH MAXIMUM TAKE-OFF WEIGHT MORE THAN 150 KG.
880691 | UNMANNED AIRCRAFT WITH MAXIMUM TAKE-OFF WEIGHT NOT MORE THAN 250 G, NESOI.
880692 | UNMANNED AIRCRAFT WITH MAXIMUM TAKE-OFF WEIGHT MORE THAN 250 G BUT NOT MORE THAN 7 KG, NESOI.
880693 | UNMANNED AIRCRAFT WITH MAXIMUM TAKE-OFF WEIGHT MORE THAN 7 KG BUT NOT MORE THAN 25 KG, NESOI.
880694 | UNMANNED AIRCRAFT WITH MAXIMUM TAKE-OFF WEIGHT MORE THAN 25 KG BUT NOT MORE THAN 150 KG, NESOI.
880699 | UNMANNED AIRCRAFT WITH MAXIMUM TAKE-OFF WEIGHT MORE THAN 150 KG, NESOI.
880710 | PROPELLERS AND ROTORS AND PARTS THEREOF, FOR BALLOONS, GLIDERS, OTHER AIRCRAFT AND SPACECRAFT, ETC.
880720 | UNDERCARRIAGES AND PARTS THEREOF, FOR BALLOONS, GLIDERS, OTHER AIRCRAFT AND SPACECRAFT, ETC.
880730 | PARTS OF AIRPLANES OR HELICOPTERS, NESOI.
880790 | PARTS FOR USE IN CIVIL AIRCRAFT, BALLOONS, DIRIGIBLES, GLIDERS, HANG GLIDERS AND OTHER NON-POWERED AIRCRAFT, NESOI.
* * * * * * *

11. Supplement no. 5 to part 746 is amended by adding a sentence following the second sentence of paragraph (a) to read as follows:

Supplement No. 5 to Part 746—`Luxury Goods' Sanctions for Russia and Belarus Pursuant to § 746.10(a)(1) and (2)

(a) * * * Although fasteners (e.g., screws, bolts, nuts, nut plates, studs, inserts, clips, rivets, pins), washers, spacers, insulators, grommets, bushings, springs, wires, and solder are excluded from the scope of this supplement, see part 744 of the EAR for license requirements for Russia and Belarus that extend to all items “subject to the EAR,” e.g., § 744.21 of the EAR and the Entity List license requirements, which in most cases extend to all items “subject to the EAR.” * * *

* * * * *

12. Supplement no. 6 to part 746 is amended by adding a sentence to the end of the introductory text to the supplement to read as follows:

Supplement No. 6 to Part 746—Russian and Belarusian Industry Sector Sanctions Pursuant to § 746.5(a)(1)(iii)

* * * This supplement does not include any item that meets the definition of “medicine” in § 772.1 of the EAR.

* * * * *

13. Supplement no. 7 to part 746 is amended by:

a. Adding a sentence following the second sentence of paragraph (a); and

b. Adding in the table, in numerical order, the entry “852910.”

The additions read as follows:

Supplement No. 7 to Part 746—Items That Require a License Under § 746.6 When Destined to the Temporarily Occupied Crimea Region of Ukraine, Under § 746.7 When Destined to Iran, and Under § 746.8 When Destined to Russia or Belarus

* * * * *

(a) * * * Although fasteners (e.g., screws, bolts, nuts, nut plates, studs, inserts, clips, rivets, pins), washers, spacers, insulators, grommets, bushings, springs, wires, and solder are excluded from the scope of this supplement, see part 744 of the EAR for license requirements for Russia and Belarus that extend to all items “subject to the EAR,” e.g., § 744.21 of the EAR and the Entity List license requirements, which in most cases extend to all items “subject to the EAR.” * * *

* * * * *

HTS-6 codes | HTS description
* * * * * * *
852910 | Antennas and antenna reflectors and parts thereof.
* * * * * * *

Thea D. Rozman Kendler,
Assistant Secretary for Export Administration.

[FR Doc. 2024-01408 Filed 1-23-24; 8:45 am]

BILLING CODE 3510-33-P